DEPARTMENT OF COMMERCE

International Trade Administration

A-274-804

Notice of Initiation and Preliminary Results of Changed Circumstances Antidumping Duty Administrative Review: Carbon and Certain Alloy Steel Wire Rod from Trinidad and Tobago

AGENCY: Import Administration, International Trade Administration, Department of Commerce.

SUMMARY: The Department of Commerce (“the Department”) is initiating a changed circumstances administrative review of the antidumping duty order of carbon and certain alloy steel wire rod (“steel wire rod”) from Trinidad and Tobago¹ in response to a request from the petitioners² and respondent, Caribbean Ispat Limited (“CIL”). Both parties have requested that the Department conduct a changed circumstances review to determine whether Mittal Steel Point Lisas Limited (“Mittal”) is the successor-in-interest to CIL, and, as such, is entitled to receive the same antidumping duty treatment accorded CIL.

¹ See Notice of Amended Final Determination of Sales at Less Than Fair Value and Antidumping Duty Order: Carbon and Certain Alloy Steel Wire Rod from Trinidad and Tobago, 67 FR 65944 (October 29, 2002) (“Antidumping Order)

² Gerdau Ameristeel U.S. Inc., ISG Georgetown Inc., Keystone Consolidated Industries, Inc., and North Star Steel Texas, Inc.

EFFECTIVE DATE: May 2, 2005.

FOR FURTHER INFORMATION CONTACT:

Dennis McClure or Victoria Cho at (202) 482-5973 or (202) 482-5075, respectively; AD/CVD Operations, Office 3, Import Administration, International Trade Administration, U.S. Department of Commerce, 14th Street & Constitution Avenue, NW, Washington, DC 20230.

SUPPLEMENTARY INFORMATION: Background:

On October 29, 2002, the Department published in the Federal Register an antidumping duty order on steel wire rod from Trinidad and Tobago. See Antidumping Order. The current scope of the merchandise subject to this order was published in the Notice of Final Results of Antidumping Duty Administrative Review: Carbon and Certain Alloy Steel Wire Rod from Trinidad and Tobago 70 FR 12648 (March 15, 2005). One of the companies subject to the investigation was CIL. On March 3, 2005, CIL notified the Department of its name change and stated that on January 31, 2005, CIL legally changed its name to Mittal. See March 3, 2005, letter from CIL to the Secretary of Commerce. On March 21, 2005, the petitioners requested that the Department conduct a changed circumstances review to determine whether Mittal is the successor-in-interest to CIL. See March 21, 2005, letter from the petitioners to the Secretary of Commerce. On April 6, 2005, CIL requested that the Department initiate and conduct an expedited changed circumstances review to determine for purposes of the antidumping law whether Mittal is the successor-in-interest to CIL. The Department has determined to conduct the review on an expedited basis and preliminarily finds that Mittal is the successor-in-interest to CIL.

Initiation of Changed Circumstances Review

Pursuant to section 751(b)(1) of the Tariff Act of 1930, as amended (“the Act'), the Department will conduct a changed circumstances review upon request from an interested party or receipt of information concerning an antidumping duty order, when either of these shows changed circumstances sufficient to warrant a review of the order. In this case, the Department finds that the information submitted by the petitioners and respondent provides sufficient evidence of changed circumstances to warrant a review to determine whether Mittal is the successor-in-interest to CIL. Thus, in accordance with section 751(b) of the Act, the Department is initiating a changed circumstances review to determine whether Mittal is the successor-in-interest to CIL for purposes of determining antidumping duty liability with respect to imports of steel wire rod from Trinidad and Tobago produced and exported by CIL and whether the order as applied to CIL should apply to subject merchandise manufactured and exported by Mittal.

Furthermore, 19 CFR 351.221(c)(3)(ii) permits the Department to combine the notice of initiation of a changed circumstances review and the notice of preliminary results in a single notice, if the Department concludes that expedited action is warranted. In this case, the Department finds that the information submitted provides sufficient evidence of changed circumstances to warrant a review. Furthermore, we determine that expedited action is warranted and we preliminarily find that Mittal is the successor-in-interest to CIL. Because we have concluded that expedited action is warranted, we are combining these notices of initiation and preliminary results.

Preliminary Results

In making a successor-in-interest determination, the Department examines several factors including, but not limited to, changes in: (1) Management; (2) production facilities; (3) supplier relationships; and (4) customer base. See, e.g., Notice of Final Results of Changed Circumstances Antidumping Duty Administrative Review: Polychloroprene Rubber From Japan, 67 FR 58 (Jan. 2, 2002); Brass Sheet and Strip from Canada: Final Results of Antidumping Duty Administrative Review, 57 FR 20460, 20462 (May 13, 1992). While no single factor or combination of factors will necessarily provide a dispositive indication of a successor-in-interest relationship, the Department will generally consider the new company to be the successor to the previous company if the new company's resulting operation is not materially dissimilar to that of its predecessor. See, e.g., Fresh and Chilled Atlantic Salmon from Norway; Final Results of Changed Circumstances Antidumping Duty Administrative Review, 64 FR 9979 (March 1, 1999); Industrial Phosphoric Acid from Israel; Final Results of Changed Circumstances Review, 59 FR 6944 (February 14, 1994). Thus, if the evidence demonstrates that, with respect to the production and sale of the subject merchandise, the new company operates as the same business entity as the former company, the Department will accord the new company the same antidumping treatment as its predecessor.

In accordance with 19 CFR 351.221(c)(3)(ii), we preliminarily determine that Mittal is the successor-in-interest to CIL. In its April 6, 2005, submission Mittal provided evidence supporting its claim to be the successor-in-interest to CIL. Documentation attached to Mittal's April 6, 2005, submission shows that the acquisition of LNM Holdings by Ispat International N.V. (CIL's parent company) and the following name change to CIL resulted in little or no change in management, production facility, supplier relationships, or customer base. This documentation consists of: (1) A press release regarding the name change of Ispat International N.V.; (2) Ispat International N.V.'s Prospectus; (3) a certificate of amendment from the Government of Trinidad and Tobago reflecting the name change, and including the articles of amendment, and a copy of the shareholder resolution authorizing the name change; (4) a letter from the Companies Registry of Trinidad and Tobago stating that Mittal and CIL are one and the same legal entity; (5) documentation illustrating that Mittal and CIL have been assigned the same taxpayer file number and maintain the same bank account; (6) organizational charts that illustrate essentially the same management and organizational structure; (7) a listing of CIL's and Mittal's board of directors which are exactly the same; (8) a letter from the lessor stating that Mittal will occupy the same premises and continue CIL's lease under the name of Mittal; (9) a list of CIL's suppliers and a sample letter from Mittal to one of its suppliers explaining that CIL has legally changed its name to Mittal and that there will be no change in corporate identity of the company; and (10) a list of customers identifying the same customers before and after the name change as well as a sample letter to the customers explaining the name change. The documentation described above demonstrates that there was little to no change in management structure, supplier relationships, production facilities, or customer base.

For these reasons, we preliminarily find that Mittal is the successor-in-interest to CIL and, thus, should receive the same antidumping duty treatment with respect to steel wire rod from Trinidad and Tobago as the former CIL.

Public Comment

Any interested party may request a hearing within 30 days of publication of this notice. Any hearing, if requested, will be held no later than 44 days after the date of publication of this notice, or the first workday thereafter. Case briefs from interested parties may be submitted not later than 30 days after the date of publication of this notice. Rebuttal briefs, limited to the issues raised in those comments, may be filed not later than 37 days after the date of publication of this notice. All written comments shall be submitted in accordance with 19 CFR 351.303. Persons interested in attending the hearing, if one is requested, should contact the Department for the date and time of the hearing. The Department will publish the final results of this changed circumstances review, in accordance with 19 CFR 351.216(e), including the results of its analysis of issues raised in any written comments.

The current requirement for a cash deposit of estimated antidumping duties on all subject merchandise will continue unless and until it is modified pursuant to the final results of this changed circumstances review.

We are issuing and publishing these results and notice in accordance with sections 751(b)(1) and 777(i)(1) and (2) of the Act and 19 CFR 351.216.

Dated: April 26, 2005.
Barbara E. Tillman,
Acting Assistant Secretary for Import Administration.

[FR Doc. E5-2094 Filed 4-29-05; 8:45 am]

BILLING CODE 3510-DS-S